DEPARTMENT OF ENERGY

Federal Energy Regulatory Commission

[Docket No. EL20-10-000]

Anbaric Development Partners, LLC v. PJM Interconnection, L.L.C.; Notice of Complaint

Take notice that on November 18, 2019, Anbaric Development Partners, LLC (Complainant) filed a formal complaint against the PJM Interconnection, L.L.C. (PJM or Respondent) pursuant to sections 206 and 306 of the Federal Power Act, 16 U.S.C. 824e, 825e, and Rule 206 of the Federal Energy Regulatory Commission's (Commission) Rules of Practice and Procedure, 18 CFR 385.206, alleging that (i) the transmission interconnection procedures under the PJMs' Tariff are unjust, unreasonable and unduly discriminatory and preferential; and (ii) requesting that the Commission (a) require PJM to give Transmission Platform Projects the opportunity to obtain Material Interconnection Rights under the PJM Tariff; (b) direct PJM to modify the PJM Tariff to permit open access Transmission Platform Projects as defined as Remote Generation Resource Interconnection Platform projects to materially interconnect to the PJM Transmission System as set forth herein; and (c) set a refund effective date to be the date of this Complaint such that the Commission's Order will apply to all projects with Queue Positions as of the date of the filing of this Complaint, all as more fully explained in the complaint.

The Complainant certifies that copies of the complaint were served by email and U.S. mail on the contacts listed for Respondent on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on December 9, 2019.

Dated: November 20, 2019.
Nathaniel J. Davis, Sr.,
Deputy Secretary.

[FR Doc. 2019-25623 Filed 11-25-19; 8:45 am]

BILLING CODE 6717-01-P